DEPARTMENT OF THE INTERIOR

Fish and Wildlife Service

Draft Revised Fish and Wildlife Service National Environmental Policy Act Guidance; Fish and Wildlife Manual, Part 550, Chapter 1 and 2

AGENCY: U.S. Fish and Wildlife Service, Interior.

ACTION: Notice of availability.

SUMMARY: The U.S. Fish and Wildlife Service (Service or We) is issuing this notice to invite public comments on draft revised National Environmental Policy Act guidelines in the Service's Fish and Wildlife Manual, Part 550, Chapters 1 and 2. The revised draft guidelines can be obtained by accessing http://www.fws.gov/r9esnepa/draft550.htm, or by calling or writing the contacts listed in ADDRESSES below.

DATES: Written comments on the draft revised guidelines should be submitted on or before May 31, 2000, to the addresses below.

ADDRESSES: Written comments on the notice can be sent to Dr. Benjamin N. Tuggle, Chief, Division of Habitat Conservation, 1849 C Street, NW., 400 Arlington Square Building, Washington, DC 20240; or they can be electronically transmitted to don_peterson@fws.gov.

FOR FURTHER INFORMATION CONTACT: Don Peterson, Washington Office Environmental Coordinator, at (703) 358-2183, or don_peterson@fws.gov.

SUPPLEMENTARY INFORMATION: The draft revised NEPA guidance is procedural in nature and provides revised guidance for our personnel on the technical aspects of how to prepare environmental impact statements and environmental assessments for actions proposed by the Service. Part 550, Chapter 1, updates our organizational responsibilities for complying with NEPA. Part 550, Chapter 2, provides revised updated guidance on scoping, encourages greater participation in cooperative agency agreements, clarifies the differences in content and scope of EAs and EISs, clarifies and encourages the NEPA document adoption process, and promotes NEPA streamlining techniques. The notice of availability of the draft revised guidance is published in the Federal Register in accordance with 40 CFR 1507.3. The draft revised guidance does not address our requirements for when to prepare an EIS or EA, or when a categorical exclusion from NEPA documentation is applicable for a proposed Service action. That guidance remains unchanged and is found in the Department of the Interior Manual in 516 DM 6, Appendix 1.

When finalized, the guidance will be included with previous revisions made to our NEPA guidance on documenting and implementing decisions in Part 550, Chapter 3 (published in the Fish and Wildlife Service's Manual on March 29, 1996), and to our NEPA procedures in the Department of the Interior Manual in Part 516 DM Chapter 6, Appendix 1 (62 FR 2380, January 16, 1997) on when to prepare an EA or an EIS, and when a categorical exclusion from NEPA documentation applies. The draft revised guidance updates and supersedes Service NEPA guidance for internal compliance in Part 30 AM Chapter 2 and 3, dated September 23, 1983.

The draft revised guidance streamlines and simplifies the current guidance (published in 1983) by relocating cited regulations, procedures, guidance, executive orders, and other documents to the Service's NEPA Reference Handbook, and by making the guidance more readable and concise. The Service NEPA Reference Handbook can be accessed at http://www.fws.gov/r9esnepa.

Dated: March 27, 2000.
Jamie Rappaport Clark,
Director, Fish and Wildlife Service.

[FR Doc. 00-9282 Filed 4-13-00; 8:45 am]

BILLING CODE 4310-55-U